DEPARTMENT OF TRANSPORTATION

Federal Motor Carrier Safety Administration

49 CFR Parts 350, 355, and 388

[Docket No. FMCSA-2017-0370]

Motor Carrier Safety Assistance Program; Extension of Comment Period

AGENCY: Federal Motor Carrier Safety Administration (FMCSA), DOT.

ACTION: Notice of proposed rulemaking; extension of comment period.

SUMMARY: The Federal Motor Carrier Safety Administration (FMCSA) extends the comment period for its August 22, 2019, notice of proposed rulemaking (NPRM) to amend its rules concerning the Agency's financial assistance programs. FMCSA received a request for an extension to the comment period from the Commercial Vehicle Safety Alliance (CVSA). The Agency believes it is appropriate to extend the comment period to provide interested parties additional time to submit their responses to the NPRM. Therefore, the Agency extends the deadline for the submission of comments until October 21, 2019.

DATES: The comment period for the NPRM published August 22, 2019, at 84 FR 44162, is extended to October 21, 2019.

ADDRESSES: You may submit comments bearing the Federal Docket Management System (FDMS) Docket ID FMCSA-2017-0370 using any of the following methods:

• Federal eRulemaking Portal: https://www.regulations.gov/docket?D=FMCSA-2017-0370. Follow the online instructions for submitting comments.

• Mail: Docket Management Facility, U.S. Department of Transportation, 1200 New Jersey Avenue SE, West Building, Ground Floor, Room Wl2-140, Washington, DC 20590-0001.

• Hand Delivery or Courier: West Building, Ground Floor, Room W12-140, 1200 New Jersey Avenue SE, between 9 a.m. and 5 p.m., Monday through Friday, except Federal holidays.

• Fax: (202) 493-2251.

To avoid duplication, please use only one of these four methods. See the “Public Participation” portion of the SUPPLEMENTARY INFORMATION section for instructions on submitting comments.

FOR FURTHER INFORMATION CONTACT: Mr. Jack Kostelnik, State Programs Division, Federal Motor Carrier Safety Administration, 1200 New Jersey Avenue SE, Washington, DC 20590-0001, by telephone at (202) 366-5721, or by email at jack.kostelnik@dot.gov. If you have questions on viewing or submitting material to the docket, contact Docket Services, telephone (202) 366-9826.

SUPPLEMENTARY INFORMATION:

I. Public Participation and Request for Comments

A. Submitting Comments

If you submit a comment, please include the docket number for the NPRM (Docket No. FMCSA-2017-0370), indicate the specific section of the NPRM to which each comment applies, and provide a reason for each suggestion or recommendation. You may submit your comments and material online or by fax, mail, or hand delivery, but please use only one of these means. FMCSA recommends that you include your name and a mailing address, an email address, or a phone number in the body of your document so that FMCSA can contact you if there are questions regarding your submission. To submit your comment online, go to https://www.regulations.gov/docket?D=FMCSA-2017-0370. Click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in the NPRM as being available in the docket, go to https://www.regulations.gov/docket?D=FMCSA-2017-0370 and choose the document to review. If you do not have access to the internet, you may view the docket online by visiting the Docket Management Facility in Room W12-140 on the ground floor of the DOT West Building, 1200 New Jersey Avenue SE, Washington, DC 20590, between 9 a.m. and 5 p.m., Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14-FDMS), which can be reviewed at www.dot.gov/privacy.

II. Background

The August NPRM proposed amendments to the Agency's financial assistance programs resulting from the Fixing America's Surface Transportation (FAST) Act, including amendments based on the funding formula recommendations derived from the Motor Carrier Safety Assistance Program (MCSAP) Formula Working Group (working group). The NPRM proposed reorganizing the Agency's regulations to create a standalone subpart for the High Priority Program. It also proposed other programmatic changes to reduce redundancies, require the use of 3-year MCSAP commercial vehicle safety plans (CVSPs), and align the financial assistance programs with FMCSA's current enforcement and compliance programs.

The comment period for the NPRM was set at 45 days, and would end on October 7, 2019. FMCSA received a request to extend the comment period for an additional 45 days from the CVSA (available in the docket). CVSA stated that the original 45-day period did not allow enough time to prepare and approve comments on such a complicated and important issue.

In consideration of the CVSA request, FMCSA extends the public comment period until October 21, 2019.

Issued under authority delegated in 49 CFR 1.87.

Dated: October 1, 2019.
Larry W. Minor,
Associate Administrator for Policy.

[FR Doc. 2019-22062 Filed 10-8-19; 8:45 am]

BILLING CODE 4910-EX-P